SURFACE TRANSPORTATION BOARD

Senior Executive Service Performance Review Board (PRB) and Executive Resources Board (ERB) Membership

AGENCY: Surface Transportation Board.

ACTION: Notice.

SUMMARY: Effective immediately, the membership of the PRB and ERB is as follows:

Performance Review Board

Leland L. Gardner, Chairman

Rachel D. Campbell, Member

Craig M. Keats, Member

Lucille Marvin, Alternate Member

Executive Resources Board

Rachel D. Campbell, Chairman

Lucille Marvin, Member

Joseph H. Dettmar, Member

William Huneke, Alternate Member

FOR FURTHER INFORMATION CONTACT: If you have any questions, please contact Teresa Schlee at teresa.schlee@stb.dot.gov or (202) 245-0340.

Dated: May 20, 2016.
Brendetta S. Jones,
Clearance Clerk.

[FR Doc. 2016-12297 Filed 5-24-16; 8:45 am]

BILLING CODE 4915-01-P